DEPARTMENT OF HOUSING AND URBAN DEVELOPMENT

[Docket No. FR-5609-N-10]

Notice of Proposed Information Collection for Public Comment: Survey of Manufactured (Mobile) Home Placements

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comments Due Date: October 30, 2012.

ADDRESSES: Interested persons are invited to submit comments regarding this proposal. Comments should refer to the proposal by name and/or OMB Control Number and should be sent to: Reports Liaison Officer, Office of Policy Development and Research, Department of Housing and Urban Development, 451 7th Street SW., Room 8226, Washington, DC 20410.

FOR FURTHER INFORMATION CONTACT: Requests for additional information or copies of the information collection instrument(s) and instructions should be directed to: Shawn Bucholtz, Department of Housing and Urban Development, 451 7th Street SW., Room 8222, Washington, DC 20410; telephone (202) 402-5538 (this is not a toll-free number), (or via email at shawn.j.bucholtz@hud.gov) or Erica Filipek, U.S. Census Bureau, Manufacturing and Construction Division, 4700 Silver Hill Road, Washington, DC 20233-6900, at (301) 763-5161 (or via email at Erica.Mary.Filipek@census.gov).

SUPPLEMENTARY INFORMATION: The Department will submit the proposed information collection to OMB for review, as required by the Paperwork Reduction Act of 1995 (44 U.S.C. Chapter 35, as amended).

I. Abstract

The Survey of Manufactured (Mobile) Home Placements collects data on the characteristics of newly manufactured homes placed for residential use including number, sales price, location, and other selected characteristics. HUD uses the statistics to respond to a Congressional mandate in the Housing and Community Development Act of 1980, 42 U.S.C. 5424 note, which requires HUD to collect and report manufactured home sales and price information for the Nation, census regions, states, and selected metropolitan areas and to monitor whether new manufactured homes are being placed on owned rather than rented lots. HUD also used these data to monitor total housing production and its affordability. Furthermore, the Survey of Manufactured (Mobile) Home Placements serves as the basis for HUD's mandated indexing of loan limits. Section 2145(b) of the Housing and Economic Recovery Act (HERA) of 2008 requires HUD to develop a method of indexing to annually adjust Title I manufactured home loan limits. This index is based on manufactured housing price data collected by this survey. Section 2145 of the HERA of 2008 also amends the maximum loan limits for manufactured home loans insured under Title I. HUD implemented the revised loan limits, as shown below, for all manufactured home loans for which applications are received on or after March 3, 2009.

Loan type | Purpose | Old loan limit | New loan limit
MANUFACTURED HOME IMPROVEMENT LOAN | For financing alterations, repairs and improvements upon or in connection with existing manufactured homes | $17,500 | $25,090
MANUFACTURED HOME UNIT(S) | To purchase or refinance a Manufactured Home unit(s) | 48,600 | 69,678
LOT LOAN | To purchase and develop a lot on which to place a manufactured home unit | 16,200 | 23,226
COMBINATION LOAN FOR LOT AND HOME | To purchase or refinance a manufactured home and lot on which to place the home | 64,800 | 92,904

II. Method of Collection

The methodology for collecting information on new manufactured homes involves contacting a monthly sample of new manufactured homes shipped by manufacturers. The units are sampled from lists obtained from the Institute for Building Technology and Safety. Dealers that take shipment of the selected homes are mailed a survey form for recording the status of the manufactured home. Each successive month, the dealer is contacted by telephone and provides updated status information about the home. Contact continues until the selected home is placed.

III. Data

OMB Control Number: 2528-0029.

Form Number: C-MH-9A.

Type of Review: Regular submission.

Affected Public: Business firms or other for-profit institutions.

Estimated Number of Respondents: 6,000.

Estimated Time per Response: 30 min.

Estimated Total Annual Burden Hours: 3,000.

Estimated Total Annual Cost: $60,810.

Respondent's Obligation: Voluntary.

Legal Authority: Title 42 U.S.C. 5424 note, Title 13 U.S.C. 8(b), and Title 12, U.S.C., 1701z-1.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 23, 2012.
Erika C. Poethig,
Acting Assistant Secretary for Policy Development and Research.

[FR Doc. 2012-21591 Filed 8-30-12; 8:45 am]

BILLING CODE 4210-67-P